OFFICE OF MANAGEMENT AND BUDGET

Improving Government Charge Card Management

AGENCY: Office of Management and Budget, Executive Office of the President.

ACTION: Notice and request for comments.

SUMMARY: The Office of Management and Budget (OMB) requests comments on a draft guidance document entitled Improving Government Charge Card Management. The draft guidance, located at http://www.whitehouse.gov/omb/financial/fia_travel.html, consolidates and updates current government charge card program guidance previously issued by OMB, the General Services Administration, the Department of the Treasury, and other Federal agencies. The draft guidance applies to all Executive Branch departments and agencies, establishing standard minimum requirements and suggested best practices in areas of charge card management such as planning, training, risk management, data collection, credit worthiness, and strategic buying. When this guidance is finalized, it will be issued as either a new OMB Circular or as an addendum to an existing OMB Circular.

DATES: To ensure consideration of comments, interested parties should submit comments in writing to the Office of Federal Financial Management (OFFM), Office of Management and Budget, on or before March 28, 2005.

ADDRESSES: We are still experiencing delays in receiving regular mail, including first class and express mail. To ensure that your comments are received, we recommend that comments on this draft guidance be electronically mailed to FIAReports@omb.eop.gov, or faxed to (202) 395-3952. You may also submit written comments to Sally Clark Beecroft, Office of Federal Financial Management, Office of Management and Budget, NEOB Room 6025, 725 17th Street, NW., Washington, DC 20503, (202) 395-3993.

SUPPLEMENTARY INFORMATION: In coordinating and overseeing the Administration's financial management and procurement policies, the Office of Management and Budget (OMB) is authorized by 31 U.S.C. 1111; Reorganization Plan No. 2 of 1970; Executive Order 11541; the Chief Financial Officers Act of 1990 (31 U.S.C. 501-506); and the Office of Federal Procurement Policy Act (41 U.S.C. 405), to establish rules, regulations, circulars, bulletins, or other forms administrative guidance for Executive branch agencies. As part of the Administration's ongoing effort to improve the efficiency and integrity of government charge card programs, OMB recently convened an interagency working group to update, consolidate, and/or clarify current rules and requirements in this important area of financial management and procurement policy. As a result, the working group developed the above-referenced draft guidance document that is designed to serve as a single source for all relevant charge card management requirements. In most cases, the draft guidance document re-states and clarifies existing guidance (e.g., required policies and procedures for eliminating payment delinquencies, charge card misuse, fraud, and other forms of waste and abuse). One notable addition to the existing guidance contained in the draft is a new set of provisions related to the implementation of Sec. 639 of the Consolidated Appropriations Act, 2005 (Pub. L. 108-447), requiring Federal agencies to assess the credit worthiness of travel or purchase card applicants prior to issuing a card.

Clay Johnson III,
Deputy Director for Management.

[FR Doc. 05-3637 Filed 2-24-05; 8:45 am]

BILLING CODE 3110-01-P